DEPARTMENT OF DEFENSE

Department of the Army

Performance Review Boards Membership

AGENCY: Department of the Army, DoD.

ACTION: Notice.

SUMMARY: Notice is given of the names of members of the Performance Review Boards for the Department of the Army.

EFFECTIVE DATE: November 1, 2000.

FOR FURTHER INFORMATION CONTACT: Nancy Quick, U.S. Army Senior Executive Service Office, Assistant Secretary of the Army (Manpower and Reserve Affairs), 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the U.S. Army Corps of Engineers 2000 Senior Executive Service Performance Review Board are:

1. Maj. Gen. Milton Hunter, (Chair), Deputy Commander, U.S. Army Corps of Engineers (USACE);

2. Mr. William Dawson, (Alternate Chair), Director of Programs Management, Southwest Division, USACE;

3. Brig. Gen. Edwin Arnold, Jr., Commander, Mississippi Valley Division, USACE;

4. Mr. Louis Carr, Director of Engineering and Technical Services, Mississippi Valley Division, USACE;

5. Mr. Fred Caver, Chief, Programs Management Division, Office of the Deputy Commanding General for Civil Works, HQUSACE;

6. Mr. Stephen Coakley, Deputy Chief of Staff for Resource Management, HQUSACE;

7. Brig. Gen. Robert Griffin, Commander, Great Lakes and Ohio River Division, USACE;

8. Ms. Patricia Rivers, Chief, Environmental Division, Office of the Deputy Commanding General for Military Programs, HQUSACE; and

9. Dr. Barbara Sotirin, Director, Cold Regions Research and Engineering Laboratory, Engineer Research and Development Center, USACE.

Gregory D. Showalter,
Army Federal Register Liaison Officer.

[FR Doc. 00-29758 Filed 11-20-00; 8:45 am]

BILLING CODE 3710-08-U